DEPARTMENT OF HOMELAND SECURITY

Bureau of Customs and Border Protection

Notice of Cancellation of Customs Broker License

AGENCY: Bureau of Customs and Border Protection, U.S. Department of Homeland Security.

ACTION: General Notice.

SUMMARY: Pursuant to section 641 of the Tariff Act of 1930, as amended, (19 U.S.C. 1641) and the Customs Regulations (19 CFR 111.51), the following Customs broker licenses are cancelled without prejudice.

Name | License # | Issuing port
Diaz & Flores, Inc | 21823 | San Juan.
A.P. Champagne Company, Inc | 10194 | New Orleans.
Richard L. Writsman | 20472 | Los Angeles.
N.I. Logistics American Corporation | 20580 | Portland.

Dated: December 6, 2005.
Jayson P. Ahern,
Assistant Commissioner, Office of Field Operations.

[FR Doc. 05-23988 Filed 12-12-05; 8:45 am]

BILLING CODE 9111-14-P